NATIONAL AERONAUTICS AND SPACE ADMINISTRATION

[Notice: 25-031]

International Space Station Advisory Committee; Meeting

AGENCY: National Aeronautics and Space Administration.

ACTION: Notice of meeting.

SUMMARY: In accordance with the Federal Advisory Committee Act, as amended, the National Aeronautics and Space Administration announces a meeting of the International Space Station Advisory Committee. The purpose of the meeting is to review aspects related to the safety and operational readiness of the International Space Station.

DATES: Wednesday, September 17, 2025, 10:00 a.m.-10:30 a.m., eastern time.

ADDRESSES: Public attendance will be virtual only. See dial-in and Webinar information below under SUPPLEMENTARY INFORMATION.

FOR FURTHER INFORMATION CONTACT: Dennis McSweeney, Designated Federal Officer, ISS Advisory Committee, NASA Headquarters, Washington, DC 20546, via email at dennis.mcsweeney@nasa.gov or by telephone at (202) 358-2012.

SUPPLEMENTARY INFORMATION: As noted above, this meeting is virtual and will be open to the public via Webinar and telephonically. Webinar connectivity information is provided below. For audio, when you join the Webinar event, you may use your computer to join or call the U.S. toll conference number listed.

September 17, 2025, link: https://teams.microsoft.com/l/meetup-join/19%3ameeting_YzIzNzQ0NjItZWU0MS00MWMwLWFhMmEtNzc2MGY5NzYwNmFk%40thread.v2/0?context=%7b%22Tid%22%3a%227005d458-45be-48ae-8140-d43da96dd17b%22%2c%22Oid%22%3a%22453f1a86-a177-4251-b896-a3c23cc1a9a1%22%7d.

Meeting ID: 240 053 651 797 5, Passcode: qA9k4rT9, Call in number (audio only): +1 256-715-9946, Phone conference ID: 723 818 138 and then the # sign.

Any member of the public is permitted to file a written statement with the Panel via electronic submission to Mr. McSweeney at the email address previously noted with the subject line `Comments for 09/17/25 ISSAC open meeting.' Written statements should be limited to the subject of safety and operational readiness of the International Space Station.

It is imperative that the meeting be held on this day to accommodate the scheduling priorities of the key participants.

Jamie M. Krauk,
Advisory Committee Management Officer, National Aeronautics and Space Administration.

[FR Doc. 2025-16502 Filed 8-27-25; 8:45 am]

BILLING CODE P